DEPARTMENT OF THE INTERIOR

Bureau of Land Management

[WY-920-1310-01; WYW140768]

Notice of Proposed Reinstatement of Terminated Oil and Gas Lease

AGENCY: Bureau of Land Management, Interior.

ACTION: Notice of proposed reinstatement of terminated oil and gas lease.

SUMMARY: Under the provisions of Public Law 97-451, Antelope Coal Company timely filed a petition for reinstatement of oil and gas lease WYW140768 from lands in Converse County, Wyoming, and it was accompanied by all the required rentals and royalties accuring from January 1, 2005, the date of termination.

FOR FURTHER INFORMATION CONTACT: Bureau of Land Management, Pamela J. Lewis, Chief, Branch of Fluid Minerals Adjudication.

SUPPLEMENTARY INFORMATION: The lessee has agreed to the amended lease terms for rentals and royalties at rates of $10.00 per acre, or fraction thereof, per year and 16⅔ percent, respectively. The lessee has paid the required $500 administrative fee and $166 to reimburse the Department for the cost of this Federal Register notice. The lessee has met all the requirements for reinstatement of the lease as set out in Section 31(d) and (e) of the Mineral Lands Leasing Act of 1920 (30 U.S.C. 188), and the Bureau of Land Management is proposing to reinstate lease WYW140768 effective January 1, 2005, subject to the original terms and conditions of the lease and the increased rental and royalty rates cited above.

Pamela J. Lewis,
Chief, Branch of Fluid Minerals Adjudication.

[FR Doc. 06-1111 Filed 2-7-06; 8:45 am]

BILLING CODE 4310-22-M